DEPARTMENT OF TRANSPORTATION

Federal Aviation Administration

Aviation Rulemaking Advisory Committee Meeting

AGENCY: Federal Aviation Administration (FAA), DOT.

ACTION: Notice of public meeting.

SUMMARY: This notice announces a public meeting of the FAA's Aviation Rulemaking Advisory Committee (ARAC) to discuss rotorcraft issues.

DATES: The meeting is scheduled for Thursday, September 8, 2005, at 2 p.m. Eastern Daylight Time (EDT).

ADDRESSES: The meeting will be held at two locations. The first location will be at the FAA, 800 Independence Avenue, SW., Conference Room 810, Washington, DC 20591. The second location will be at the FAA Rotorcraft Directorate, 2601 Meacham Blvd., Don P. Watson Conference Room, 4th Floor, Fort Worth, Texas, 76137.

FOR FURTHER INFORMATION CONTACT: Caren Waddell, Office of Rulemaking, ARM-200, FAA, 800 Independence Avenue, SW., Washington, DC 20591, telephone (202) 267-8199, or e-mail caren.waddell@faa.gov.

SUPPLEMENTARY INFORMATION: The referenced meeting is announced pursuant to section 10(a)(2) of the Federal Advisory Committee Act (Pub. L. 92-463; 5 U.S.C. app. II).

The agenda will include:

• Opening Remarks

• Discussion and approval of the proposed “Fatigue Tolerance Evaluation of Metallic Structure” Advisory Circular material package.

• Working Group Status Report—Damage Tolerance and Fatigue Evaluation of Composite Rotorcraft Structure.

• FAA Status Report—Performance and Handling Qualities Requirements for Rotorcraft, Notice of Proposed Rulemaking.

• Other Business

• Future Meetings

Attendance is open to the interested public but will be limited to the space available. Persons participating by telephone can call (817) 222-4871, the pass code is 5359#. Anyone participating by telephone will be responsible for paying long-distance charges.

The public must make arrangements to present oral statements at the meeting. Written statements may be presented to the committee at any time by providing 16 copies to the person listed in the FOR FURTHER INFORMATION CONTACT section or by providing copies at the meeting. Copies of the documents to be approved may be made available by contacting Kathy L. Jones, FAA, at telephone (817) 222-5359 or e-mail Kathy.L.Jones@faa.gov.

If you are in need of assistance or require a reasonable accommodation for the meeting, please contact the person listed in the FOR FURTHER INFORMATION CONTACT section. Sign and oral interpretation, as well as a listening device, can be made available if requested 10 calendar days before the meeting.

Issued in Washington, DC on August 22, 2005.
Anthony F. Fazio,
Executive Director, Aviation Rulemaking Advisory Committee.

[FR Doc. 05-16946 Filed 8-22-05; 2:20 pm]

BILLING CODE 4910-13-P